DEPARTMENT OF THE INTERIOR National Park Service

Flight 93 National Memorial Advisory Commission; Notice of Public Meeting

AGENCY: Department of the Interior, National Park Service, Flight 93 Advisory Commission.

ACTION: Notice of public meeting.

SUMMARY: Notice is given that a meeting of the Flight 93 Advisory Commission (the Commission) will be held on Saturday, February 2, 2008 from 10 a.m. to 1 p.m. (Eastern). The Commission will meet jointly with the Flight 93 Memorial Task Force. The joint meeting will be held at the Somerset County Courthouse, Courtroom #1; 2nd floor, 111 East Union Street, Somerset, Pennsylvania, 15501.

The agenda of the meeting will include review and approval of Commission minutes from October 7, 2007; reports from the Flight 93 Memorial Task Force and National Park Service; old business; and new business.

The meeting will be open to the public. Comments from the public will be taken at the end of the meeting. Any person may file with a Commission a written statement concerning the matters to be discussed. Persons who wish to file a written statement or testify at the meeting, or who want further information concerning the meeting may contact Superintendent Joanne Hanley at 814.443.4557. Address all statements to: Flight 93 Advisory Commission, 109 West Main Street, Somerset, PA 15501.

DATES: February 2, 2008 at 10 a.m.

ADDRESSES: Somerset County Courthouse, Courtroom #1; 2nd floor; 111 East Union Street, Somerset, Pennsylvania, 15501.

FOR FURTHER INFORMATION CONTACT: Superintendent Joanne M. Hanley, 814.443.4557.

SUPPLEMENTARY INFORMATION: The Commission was established by Public Law 107-226 to advise the Secretary of the Interior on the planning, design, construction and long-term management of a permanent memorial at the crash site of Flight 93.

Dated: December 14, 2007.
Joanne M. Hanley,
Superintendent, Flight 93 National Memorial.

[FR Doc. 08-339 Filed 1-25-08: 8:45 am]

BILLING CODE 4312-25-M